DEPARTMENT OF COMMERCE

National Oceanic and Atmospheric Administration

50 CFR Part 635

[Docket No. 991210332-0212-02; I.D. 122700B]

RIN 0648-AO95

Atlantic Highly Migratory Species (HMS) Fisheries; Regulatory Adjustments

AGENCY: National Marine Fisheries Service (NMFS), National Oceanic and Atmospheric Administration (NOAA), Commerce.

ACTION: Final rule; technical amendment.

SUMMARY: NMFS amends the final regulations governing the Atlantic HMS fisheries to clarify the annual quota for blue sharks, to revise a cross-reference for shark size limits, and to revise the specifications for the East Florida Coast and Charleston Bump closed areas as intended by the recent final rule to minimize bycatch and incidental catch in the pelagic longline fishery.

DATES: Effective January 31, 2001.

FOR FURTHER INFORMATION CONTACT: Karyl Brewster-Geisz at 301-713-2347, FAX: 301-713-1917.

SUPPLEMENTARY INFORMATION: On May 28, 1999, NMFS published a final rule (64 FR 29090) that implemented, among other things, the Atlantic Tunas, Swordfish, and Sharks Fishery Management Plan (HMS FMP), which was adopted by the agency in April 1999. The final consolidated rule included language specifying the semiannual blue shark quota but inadvertently omitted language specifying the annual blue shark quota. The final consolidated rule also incorrectly cross-referenced the shark minimum size limit that is specified in the HMS FMP.

Additionally, on August 1, 2000, NMFS published a final rule (65 FR 47214) that prohibited pelagic longline fishing at certain times and in certain areas within the Exclusive Economic Zone (EEZ) of the Atlantic Ocean off the coast of the Southeastern United States and in the Gulf of Mexico. In that final rule, the definitions for the East Florida Coast and Charleston Bump closed areas inadvertently specified parts of the Atlantic Ocean outside the U.S. EEZ. As noted throughout the record for the final rule, the agency intended the restrictions to apply only in the U.S. EEZ. This technical amendment corrects these errors in the regulatory text and does not change the intent of the final rule. Due to the respecification of the referenced closed areas and the need for NMFS to distribute this information to affected fishermen and State and Federal enforcement personnel, NMFS postpones initiation of those time/area closures until March 1, 2001.

Classification

The Assistant Administrator for Fisheries (AA), under 5 U.S.C. 553(b)(B), finds that providing prior notice and opportunity for public comment on this final rule is unnecessary and contrary to the public interest. This final rule corrects earlier rules by clarifying regulatory text inconsistent with the final HMS FMP and the Final Supplemental Environmental Impact Statement for the regulatory amendment reducing bycatch, bycatch mortality, and incidental catch in the Atlantic pelagic longline fishery. These corrections and clarifications are necessary to avoid adverse impacts on fishery participants that would result from inconsistent interpretations of the regulations relative to these regulations and/or the inability of NMFS to enforce regulations due to lack of clarity. For similar reasons, the AA, under 5 U.S.C. 553(d)(3), finds that delaying the effective date of this final rule for 30 days is unnecessary and contrary to the public interest.

Because prior notice and opportunity for public comment are not required for this rule by 5 U.S.C. 553, or by any other law, the analytical requirements of the Regulatory Flexibility Act, 5 U.S.C. 601 et seq., are inapplicable. This action is not significant under the meaning of Executive Order 12866.

List of Subjects in 50 CFR Part 635

Fisheries, Fishing, Fishing vessels, Foreign relations, Intergovernmental relations, Penalties, Reporting and recordkeeping requirements, Statistics, Treaties.

Dated: January 30, 2001
William T. Hogarth,
Acting Assistant Administrator for Fisheries, National Marine Fisheries Service.

For the reasons set out in the preamble, 50 CFR part 635 is amended as follows:

PART 635—ATLANTIC HIGHLY MIGRATORY SPECIES

1. The authority citation for part 635 continues to read as follows:

Authority: 16 U.S.C. 971 et seq.; 16 U.S.C. 1801 et seq.

2. In § 635.2, the definitions of “Charleston Bump closed area” and “East Florida Coast closed area” are revised to read as follows:

§ 635.2 Definitions.

* * * * *

Charleston Bump closed area means the Atlantic Ocean area seaward of the inner boundary of the U.S. EEZ from a point intersecting the inner boundary of the U.S. EEZ at 34°00' N. lat. near Wilmington Beach, NC, and proceeding due east to connect by straight lines the following coordinates in the order stated: 34°00' N. lat., 76°00' W. long.; 31°00' N. lat., 76°00' W. long.; then proceeding due west to intersect the inner boundary of the U.S. EEZ at 31°00' N. lat. near Jekyll Island, GA.

* * * * *

East Florida Coast closed area means the Atlantic Ocean area seaward of the inner boundary of the U.S. EEZ from a point intersecting the inner boundary of the U.S. EEZ at 31°00' N. lat. near Jekyll Island, GA, and proceeding due east to connect by straight lines the following coordinates in the order stated: 31°00' N. lat., 78°00' W. long.; 28°17' N. lat., 79°12' W. long.; then proceeding along the outer boundary of the EEZ to the intersection of the EEZ with 24°00' N. lat.; then proceeding due west to the following coordinates: 24°00' N. lat., 81°47' W. long.; then proceeding due north to intersect the inner boundary of the U.S. EEZ at 81°47' W. long. near Key West, FL.

* * * * *

3. In § 635.21, paragraphs (c)(2)(ii) and (iii) are revised to read as follows:

§ 635.21 Gear operation and deployment restrictions.

* * * * *

(c) * * *

(2) * * *

(ii) In the Charleston Bump closed area from March 1 through April 30, 2001, and from February 1 through April 30 each calendar year thereafter;

(iii) In the East Florida Coast closed area at any time beginning at 12:01 a.m. on March 1, 2001; and

* * * * *

4. In § 635.22, the first sentence of paragraph (c) is revised to read as follows:

§ 635.22 Recreational retention limits.

* * * * *

(c) Sharks. One shark from either the large coastal, small coastal or pelagic group may be retained per vessel per trip, subject to the size limits described in §635.20(e), and, in addition, one Atlantic sharpnose shark may be retained per person per trip. * * *

* * * * *

5. In § 635.27, paragraph (b)(1)(iii) is revised to read as follows:

§ 6355.27 Quotas.

* * * * *

(b) * * *

(1) * * *

(iii) Pelagic sharks. The annual commercial quotas for pelagic sharks are 92 mt dw for porbeagle sharks, 273 mt dw for blue sharks, and 488 mt dw for pelagic sharks other than porbeagle or blue sharks (unless otherwise specified in the Federal Register as provided in paragraph (b)(1)(iv) of this section). These quotas are divided between two semiannual periods, January 1 through June 30, and July 1 through December 31. The quotas for each semiannual period are as follows:

(A) Porbeagle shark-46 mt dw.

(B) Blue sharks-136.5 mt dw.

(C) Pelagic sharks, other than porbeagle or blue sharks-244 mt dw.

* * * * *

[FR Doc. 01-2957 Filed 1-31-01; 3:33 pm]

BILLING CODE 3510-22-S